DEPARTMENT OF TRANSPORTATION

Federal Highway Administration

Notice of Availability of the Finding of No Significant Impact: Union and Henderson Counties, KY

AGENCY: Federal Highway Administration (FHWA), DOT.

ACTION: Notice of availability (NOA).

SUMMARY: In accordance with the National Environmental Policy Act and Federal Highway Administration procedures, the FHWA announces the availability of the Finding of No Significant Impact (FONSI) to implement the US 60 Capacity and Safety Improvement Project between Morganfield and Henderson in Union and Henderson Counties, Kentucky. The Division Administrator, FHWA-Kentucky Division signed the FONSI on April 9, 2012.

ADDRESSES: The FHWA FONSI for the US 60 Capacity and Safety Improvement project can be viewed at or copies requested from the Kentucky Transportation Cabinet District 2 office located at 1840 North Main Street Madisonville, KY 42431-5003.

FOR FURTHER INFORMATION CONTACT: Address all comments concerning this notice to Anthony Goodman of the FHWA Kentucky Division at (502) 223-6720 or via email at Anthony.Goodman@dot.gov. For additional information, contact Everett Green, P.E., Project Manager for the Kentucky Transportation Cabinet, at (270) 824-7080 or via email at Everett.Green@ky.gov.

SUPPLEMENTARY INFORMATION: The US 60 Capacity and Safety Improvement project FONSI was developed following the preparation of an Environmental Assessment in accordance with the National Environmental Policy Act (NEPA) and solicitation of comment from both the public and interested local, state and federal agencies. The decision is hereby made to implement the project that involves widening US 60 to the north of the existing roadway between Morganfield and KY 141 (South) in Waverly, a bypass around the south side of Waverly and widening US 60 between Waverly and Highland Creek. At the Highland Creek crossing the project extends northeast on new alignment bypassing Corydon to the west, reconnecting with existing US 60 to widen the remaining 3.7 miles terminating at KY 425, the Henderson Bypass. The roadway will be four lanes with a forty foot depressed grass median with twelve foot outside shoulders and six foot inside shoulders. The purpose of the project is to meet the transportation demands and capacity needs necessary to make the US 60 highway corridor in the area function effectively, and to address safety concerns. The study area is between the cities of Morganfield and Henderson, in Union and Henderson Counties, and US 60 is the only major east-west corridor in this portion of the state.

Section 106 coordination resulted in a Section 106 Memorandum of Agreement to address mitigation for historic resources. The project results in a Section 4(f) impact; replacement of the historic US 60 bridge over Highland Creek. This Finding of No Significant Impact (FONSI) is based on the Environmental Assessment (EA) which has been independently evaluated by the FHWA and determined to adequately and accurately discuss the need, environmental issues, and impacts of the proposed project and appropriate mitigation measures. It provides sufficient evidence and analysis for determining that an EIS is not required. The FHWA takes full responsibility for the accuracy, scope, and content of the EA, FONSI, and other supporting documents.

Authority: 23 U.S.C. 315; 23 CFR 771.123; 49 CFR 1.48

Issued on: May 22, 2012.
John Ballantyne,
Program Delivery Team Leader, Federal Highway Administration Frankfort, Kentucky.

[FR Doc. 2012-13035 Filed 5-30-12; 8:45 am]

BILLING CODE 4910-22-M